DEPARTMENT OF AGRICULTURE

Food and Nutrition Service

Agency Information Collection Activities: Proposed Collection; Comment Request: Uniform Grant Application Package for Discretionary Grant Programs

AGENCY: Food and Nutrition Service (FNS), USDA.

ACTION: Notice.

SUMMARY: In accordance with the Paperwork Reduction Act of 1995, this notice invites the general public and other public agencies to comment on this revised information collection. This is a revision of a currently approved collection.

The purpose of the Uniform Grant Application Package for Discretionary Grant Programs is to provide a standardized format for the development of all Requests for Applications for discretionary grant programs released by the Food and Nutrition Service (FNS) Agency and to allow for a more expeditious OMB clearance process. This revision also addresses additional information to be collected for some grant programs as supplemental information beyond the Uniform Grant Application. This notice provides 60-day notice to the public that State Plan information will be submitted in association with this information collection, and program-specific supplemental forms will be used as discussed in this notice.

DATES: Written comments must be received on or before August 4, 2025.

ADDRESSES: Comments may be sent to: Comments may also be submitted via email to greg.walton@usda.gov. Comments may also be send to the Grants Management Operations Branch, U.S. Department of Agriculture, 1320 Braddock Place, 5th Floor, Alexandria, VA 22314.

Comments will be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Andrea Lane at andrea.lane2@usda.gov, 703 305-2807.

SUPPLEMENTARY INFORMATION: Comments are invited on: (a) whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Uniform Grant Application Package for Discretionary Grant Programs.

Form Number: SF-424 Form, SF-LLL, FNS-887, FNS-906, FNS-908.

OMB Number: 0584-0512.

Expiration Date: July 31, 2025.

Type of Request: Revision of a currently approved collection.

Abstract: FNS has a number of discretionary grant programs. (Consistent with the definition in 2 CFR part 200, the term “grant” as used in this notice includes cooperative agreements.) The authorities for these grants vary and will be cited as part of each grant application solicitation. The purpose of the revision to the currently approved collection for the Uniform Grant Application Package for Discretionary Grant Programs is to continue the authority for the established uniform grant application package and to update the number of collection burden hours, accounting for noncompetitive grants issued by FNS into this information collection request package. FNS is revising the uniform collection package to allow and account for all of FNS' competitive and noncompetitive discretionary grant programs to collect information from grant applicants that are needed to evaluate and rank applicants and protect the integrity of the grantee selection process. This revision also encompasses the submittal of associated State Plan information and the use of program-specific forms, including but not limited to, Form FNS-887 Farm to School Coversheet. Under certain criteria, all FNS discretionary grant programs will be eligible to use the uniform grant application package. Before soliciting applications for a competitive or noncompetitive discretionary grant program, FNS will decide whether the uniform grant application package will meet the needs of that grant program. If FNS decides to use the uniform grant application package, FNS will note in the grant solicitation that applicants must use the uniform grant application package, and that the information collection has already been approved by OMB. If FNS decides not to use the uniform grant application package or determines that it needs grant applicants to provide additional information not contained in the uniform package, then FNS will publish at least a 30-day notice soliciting comments on its proposal to collect different or additional information before making the grant solicitation, if not already discussed in this notice. This notice discusses and gives 60-day notice to the public that State Plan information will be collected in association with grants covered by this information collection and program-specific supplemental forms will also be used, including but not limited to, Form FNS-887 Farm to School Coversheet. State Plans can discuss a wide range of information associated with the use of grant funds including, but not limited to, the goals of the project, the implementation plan, associated schedule for implementation and expected and actual results. Applicants complete Form FNS-887, Farm to School Coversheet, when applying for a farm to school grant.

The uniform grant application package will include: General information and instructions; a checklist; a requirement for the program narrative statement describing how the grant goals and objectives will be reached; the Standard Form (SF) 424 series forms (SF-424, SF-424A, and SF-424B) that request basic grant project information, budget information, and a disclosure of lobbying activities certification (SF-LLL); the Grant Program Accounting System & Financial Capability Questionnaire (FNS-906); and the Standardized Performance Progress Report (FNS-908). The revised information collection covered by this notice is related to the requirements for the program narrative statement. The requirements for the program narrative statement described in 2 CFR part 200, Appendix I and will apply to all types of grantees—State and Local governments, Indian Tribal organizations (ITOs), Business such as Non-Profit organizations, Institutions of Higher Education, and For-Profit organizations. The information collection burden related to the SF-424 series, and the lobbying certification forms have been separately approved by OMB under OMB Control Numbers: 4040-0020 February 28, 2026.

This collection also encompasses requirements for States to prepare and submit State Plans as part of, or in follow-up to, the application process for grants covered under OMB number 0584-0512, as well as the use of program-specific forms including, but not limited to Form FNS-887 Farm to School Coversheet. This collection has two different affected publics: State, Local & Tribal government as well as Business-for-profit and not-for-profit organizations. The respondent type for Business are usually Institutes of Higher Education, Colleges and Universities, or non-profit organizations.

FNS is requesting 4,153 total respondents (3,573 for SLT and 580 for Business'), we are also seeking 351,595 total annual burden hours and 135,077 total annual responses and since generic clearance are granted three years of burden upfront, this renewal is requesting 1,054,785 burden hours and 405,231 annual responses for next three years. This includes 454,935 total burden hours for reporting and 3,645 total burden hours for recordkeeping.

The estimates below are for pre- and post-award reporting and post-award recordkeeping for competitive and non-competitive grant opportunities for State, Local or Tribal government (known as Indian Tribal Organizations or ITOs). Below are the breakdowns for each affected public, for each type of grants available (competitive and non-competitive) for the reporting and recordkeeping burden activities involved before and then after grants are awarded to these affected publics.

Reporting—(Competitive) Pre Award

Affected Public (Competitive): State and Local governments, Indian Tribal Organizations (ITOs).

Estimated Number of Respondents: 2,123.

Estimated Number of Responses per Respondent: 8.

Estimated Total Annual Responses: 16,984.

Estimated Average Hours per Response: 5.90149552.

Estimated Total Annual Reporting Burden Hours: 100,231.

Reporting—(Competitive) Post Award

Affected Public: State and Local governments, Indian Tribal Organizations (ITOs).

Estimated Number of Respondents: 1,616.

Estimated Number of Responses per Respondent: 5.

Estimated Total Annual Responses: 8,080.

Estimated Average Hours per Response: 5.59504950.

Estimated Total Annual Reporting Burden Hours: 45,208.

Recordkeeping—Post Award Only

Affected Public (Competitive): State and Local governments, Indian Tribal Organizations (ITOs).

Estimated Number of Recordkeepers: 1,616.

Estimated Number of Responses per Respondent: 9.

Estimated Total Annual Responses: 14,544.

Estimate Average Hours per Response: 0.02502750.

Estimated Annual Hours per Recordkeeper: 364.

Reporting—(Competitive) Pre Award

Affected Public (Competitive): Business—Non-Profit organizations, Institutions of Higher Education, and For-Profit organizations.

Estimated Number of Respondents: 510.

Estimated Number of Responses per Respondent: 9.

Estimated Total Annual Responses: 4,590.

Estimated Average Hours per Response: 6.08061002.

Estimated Total Annual Reporting Burden Hours: 27,910.

Reporting—Post Award

Affected Public (Competitive): Business—Non-Profit organizations, Institutions of Higher Education, and For-Profit organizations.

Estimated Number of Respondents: 186.

Estimated Number of Responses per Respondent: 5.

Estimated Total Annual Responses: 930.

Estimated Average Hours per Response: 6.01827956.

Estimated Total Annual Reporting Burden Hours: 5,597.

Recordkeeping—Post Award

Affected Public (Competitive): Business Non-Profit organizations, Institutions of Higher Education, and For-Profit organizations.

Estimated Number of Recordkeepers: 186.

Estimated Number of Responses per Respondent: 9.

Estimated Total Annual Responses: 1,674.

Estimate Average Hours per Response: 0.0250896.

Estimated Annual Hours per Recordkeeper: 42.

Reporting—(Noncompetitive) Pre-Award

Affected Public (Noncompetitive): State and Local governments, Indian Tribal Organizations (ITOs).

Estimated Number of Respondents: 1,450.

Estimated Number of Responses per Respondent: 8.

Estimated Total Annual Responses: 11,600.

Estimated Average Hours per Response: 5.96577586.

Estimated Total Annual Reporting Burden Hours: 69,203.

Reporting—Post Award

Affected Public (Noncompetitive): State and Local governments, Indian Tribal Organizations (ITOs).

Estimated Number of Respondents: 1,416.

Estimated Number of Responses per respondent: 5.

Estimated Total Annual Responses: 7,080.

Estimate Average Hours per Response: 5.6.

Estimated Total Annual Burden Reporting Hours: 39,648.

Recordkeeping—Post Award

Affected Public (Noncompetitive): State and Local governments, Indian Tribal Organizations (ITOs).

Estimated Number of Respondents: 1,416.

Estimated Number of Responses per respondent: 9.

Estimated Total Annual Responses: 12,744.

Estimate Average Hours per Response: 0.02510985.

Estimated Total Annual Burden Reporting Hours: 320.

Reporting—(Noncompetitive) Pre-Award

Affected Public (Noncompetitive): Business Non-Profit organizations, Institutions of Higher Education, and For-Profit organizations.

Estimated Number of Respondents: 70.

Estimated Number of Responses per Respondent: 9.

Estimated Total Annual Responses: 630.

Estimated Average Hours per Response: 5.2888888.

Estimated Total Annual Reporting Burden Hours: 3,332.

Reporting—Post Award

Affected Public (Noncompetitive): Business Non-Profit organizations, Institutions of Higher Education, and For-Profit organizations.

Estimated Number of Respondents: 2,184.

Estimated Number of Responses per respondent: 5.

Estimated Total Annual Responses: 10,920.

Estimate Average Hours per Response: 5.6.

Estimated Total Annual Burden Reporting Hours: 61,152.

Recordkeeping—Post Award

Affected Public (Noncompetitive): Business Non-Profit organizations, Institutions of Higher Education, and For-Profit organizations.

Estimated Number of Respondents: 2,184.

Estimated Number of Responses per respondent: 9.

Estimated Total Annual Responses: 19,656.

Estimate Average Hours per Response: 0.02497964.

Estimated Total Annual Burden Reporting Hours: 491.

BILLING CODE 3410-30-P

James C. Miller,
Administrator.

[FR Doc. 2025-10136 Filed 6-4-25; 8:45 am]

BILLING CODE 3410-30-C